FEDERAL COMMUNICATIONS COMMISSION

47 CFR Parts 1, 61, and 69

[CC Docket Nos. 96-262 and 97-146; DA 00-1268]

Commission Asks Parties To Update and Refresh Record on Mandatory Detariffing of CLEC Interstate Access Services

AGENCY: Federal Communications Commission.

ACTION: Proposed rule: comments requested.

SUMMARY: The Federal Communications Commission (Commission) sought comment in two rulemaking dockets, the Access Charge Reform rulemaking docket and the Complete Detariffing for Competitive Access Providers and Competitive Local Exchange Carriers (CLEC Detariffing) rulemaking docket, regarding the regulatory or market-based approaches that would ensure that competitive local exchange carrier (CLEC) rates for interstate access are reasonable. Among the proposals discussed in these proceedings, the Commission invited interested parties to comment on whether mandatory detariffing of CLEC interstate access service rates would provide a market-based deterrent to excessive terminating access charges. As indicated in this Notice, interested parties may file comments and reply comments to update and refresh the records of these proceedings regarding mandatory detariffing of CLEC interstate access services.

DATES: Submit comments on or before July 12, 2000. Submit reply comments on or before July 24, 2000.

ADDRESSES: Submit electronic comments and other data to http://www.fcc.gov/e-file/ecfs.html. See Supplementary Information for file formats and other information about electronic filing. Submit paper copies to the Commission's Secretary, Magalie Roman Salas, Office of the Secretary, Federal Communications Commission 445—12th Street S.W., TW-A325, Washington, D.C. 20554. See Supplementary Information for information on additional instructions for filing paper copies.

FOR FURTHER INFORMATION CONTACT: Joi Roberson Nolen, 202-418-1537.

SUPPLEMENTARY INFORMATION: On April 28, 2000, the court of appeals upheld the Commission's 1996 order requiring detariffing for interstate, domestic, interexchange services of nondominant interexchange carriers. See MCI WorldCom v. FCC, 209 F.3d 760 (D.C. Cir. 2000); Policy and Rules Concerning the Interstate, Interexchange Marketplace, CC Docket No. 96-61, Second Report and Order, 61 FR 59340 (November 2, 1996) (IXC Detariffing Order). On May 1, 2000, the court lifted the stay of the IXC Detariffing Order and the rules adopted in the order became effective. See MCI WorldCom v. FCC, No. 96-1459, slip op. (D.C. Cir., May 1, 2000). In light of the court's ruling, in this Notice, we invite parties to update and refresh the record regarding mandatory detariffing of CLEC interstate access services.

Specifically, commenters should discuss whether and, if so, how mandatory detariffing: (1) Addresses any market failure to constrain terminating access rates; (2) provides a market-based solution to excessive terminating charges by encouraging parties to negotiate terminating access charges; (3) provides the same benefits identified in the CLEC Detariffing rulemaking proceeding for permissive detariffing; (4) offers additional public interest benefits beyond permissive detariffing; (5) precludes the use of the filed rate doctrine to nullify contractual arrangements; (6) reduces the administrative burden on the Commission of maintaining tariffs; and (7) reduces the economic burden on the non-ILECs of filing tariffs.

This matter shall be treated as a “permit but disclose” proceeding in accordance with the Commission's ex parte rules. See 47 CFR 1.1200, 1.1206. Persons making oral ex parte presentations are reminded that memoranda summarizing the presentations must contain summaries of the substance of the presentations and not merely a listing of the subjects discussed. More than a one or two sentence description of the views and arguments presented is generally required. See 47 CFR 1.1206(b). Other rules pertaining to oral and written ex parte presentations in permit-but-disclose proceedings are set forth in § 1.1206(b) of the Commission's rules, 47 CFR 1.1206(b).

Regulatory Flexibility Analysis and Paperwork Reduction Analysis. The Notice of Proposed Rulemaking in the CLEC Detariffing rulemaking docket and both the Notice of Proposed Rulemaking and the Further Notice of Proposed Rulemaking in the Access Charge Reform rulemaking docket contained Initial Regulatory Flexibility Analyses (IRFA) as required by the Regulatory Flexibility Act (RFA). See 5 U.S.C. 603; see also 5 U.S.C. 601 et seq., as amended by the Contract with America Advancement Act of 1996, Public Law 104-121, 110 Stat. 8747 (1996)(CWAA). See Access Charge Reform, CC Docket No. 96-262, Notice of Proposed Rulemaking, Third Report and Order, and Notice of Inquiry, 62 FR 4670 (January 31, 1997); Access Charge Reform, CC Docket No. 96-262, Fifth Report and Order and Further Notice of Proposed Rulemaking, 64 FR 51280 (September 22, 1999)); Hyperion Telecommunications, Inc. and Time Warner Petitions for Forbearance, Complete Detariffing for Competitive Access Providers and Competitive Local Exchange Carriers, CC Docket No. 97-146, Memorandum Opinion and Order and Notice of Proposed Rulemaking, 62 FR 38244, June 19, 1997 (collectively, NPRMs). In addition, the NPRMs also invited the general public and the Office of Management and Budget (OMB) to comment on the information collections contained in the NPRMs, as required by the Paperwork Reduction Act of 1995, Public Law 104-13. Because this Notice does not set forth substitute rules for, or changes to, those contained in the NPRMs, the initial IRFAs therefore are not revised nor do we now solicit additional comments on the information collections contained in the NPRMs.

Legal Basis. The proposed action is supported by Sections 4(i), 4(j), 201-205, 251, 252, 253 and 403.

Filing Comments. Pursuant to §§ 1.415 and 1.419 of the Commission's rules, 47 CFR 1.415, 1.419, interested parties may file comments on or before July 12, 2000. Interested parties may file reply comments on or before July 24, 2000. Comments may be filed using the Commission's Electronic Comment Filing system (ECFS) or by filing paper copies. See Electronic Filing of Documents in Rulemaking Proceedings, 64 FR 24121 (May 1, 1998). Comments filed through ECFS can be sent as an electronic file via the Internet to http://www.fcc.gov/e-file/ecfs.html. Commenters must transmit one electronic copy of the comments to each docket or rulemaking number referenced in the caption. In completing the transmittal screen, commenters should include their full name, Postal Service mailing address, and the applicable docket or rulemaking number. Parties also may submit an electronic comment by Internet e-mail. To get filing instructions for e-mail comments, commenters should send an e-mail message to ecfs@fcc.gov and include “get form <your e-mail address>” in the body of the message. A sample form and directions will be sent in reply. Parties who choose to file by paper must file an original and four copies of each filing with the Commission's Secretary, Magalie Roman Salas, Office of the Secretary, Federal Communications Commission, 445—12th Street, S.W., TW-A325, Washington, D.C. 20554. In addition, one copy of each pleading must be filed with International Transcription Services (ITS), the Commission's duplicating contractor, at its office at 1231—20th Street, N.W., Washington, D.C. 20036, and one copy with the Chief, Competitive Pricing Division, 445—12th Street, S.W., TW—A225, Washington, D.C. 20554.

List of Subjects

47 CFR Part 1

Administrative practice and procedure, Communications common carriers, Telecommunications.

47 CFR Part 61

Access Charges, Communications common carriers, Telephone.

47 CFR Part 69

Communications common carriers, Telephone.

Federal Communications Commission.

Magalie Roman Salas,
Secretary.

[FR Doc. 00-16166 Filed 6-23-00; 8:45 am]

BILLING CODE 6712-01-U